DEPARTMENT OF THE INTERIOR

National Park Service

[NPS-WASO-NAGPRA-NPS0036191; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and has determined that there is a cultural affiliation between the human remains and Indian Tribes or Native Hawaiian organizations in this notice. The human remains were collected at the “Fort Apache Indian School” (official name: Theodore Roosevelt Boarding School) in Navajo County, AZ; the Sherman Institute in Riverside County, CA; and the U.S. Indian Vocational School in Bernalillo County, NM.

DATES: Repatriation of the human remains in this notice may occur on or after August 17, 2023.

ADDRESSES: Jane Pickering, Peabody Museum of Archaeology and Ethnology, Harvard University, 11 Divinity Avenue, Cambridge, MA 02138, telephone (617) 496-2374, email jpickering@fas.harvard.edu.

SUPPLEMENTARY INFORMATION: This notice is published as part of the National Park Service's administrative responsibilities under NAGPRA. The determinations in this notice are the sole responsibility of the PMAE. The National Park Service is not responsible for the determinations in this notice. Additional information on the determinations in this notice, including the results of consultation, can be found in the inventory or related records held by the PMAE.

Description

Human remains representing, at minimum, 22 individuals were collected at the “Fort Apache Indian School” (official name: Theodore Roosevelt Boarding School) in Whiteriver, Navajo County, AZ. The human remains include hair clippings collected from 21 individuals identified as “Apache.” Of that number, one individual is recorded as being 15 years old; eight individuals are recorded as being 18 years old; seven individuals are recorded as being 19 years old; one individual is recorded as being 20 years old; two individuals are recorded as being 22 years old; one individual is recorded as being 62 years old; and one individual is of unknown age. The human remains also include hair clippings collected from one individual identified as “Apache/White” and recorded as being 20 years old. Miss Ann Chatham took the hair clippings at the “Fort Apache Indian School” (official name: Theodore Roosevelt Boarding School) between 1930 and 1933. Chatham sent the hair clippings to George Woodbury, who donated the hair clippings to the PMAE in 1935. No associated funerary objects are present.

Human remains representing, at minimum, two individuals were collected at the Sherman Institute in Riverside County, CA. The human remains are hair clippings collected from two individuals identified as “Apache.” One of them is recorded as being 22 years old and the other is recorded as being 21 years old. Samuel H. Gilliam took the hair clippings at the Sherman Institute between 1930 and 1933. Gilliam sent the hair clippings to George Woodbury, who donated the hair clippings to the PMAE in 1935. No associated funerary objects are present.

Human remains representing, at minimum, two individuals were collected at the U.S. Indian Vocational School in Albuquerque, Bernalillo County, NM. The human remains are hair clippings collected from two individuals identified as “Apache,” one of whom is recorded as being 16 years old. Reuben Perry took the hair clippings at the U.S. Indian Vocational School in Albuquerque between 1930 and 1933. Perry sent the hair clippings to George Woodbury, who donated the hair clippings to the PMAE in 1935. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: kinship and anthropological.

Determinations

Pursuant to NAGPRA and its implementing regulations, and after consultation with the appropriate lineal descendants, Indian Tribes, and Native Hawaiian organizations, the PMAE has determined that:

• The human remains described in this notice represent the physical remains of 26 individuals of Native American ancestry.

• There is a relationship of shared group identity that can be reasonably traced between the human remains described in this notice and the White Mountain Apache Tribe of the Fort Apache Reservation, Arizona.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after August 17, 2023. If competing requests for repatriation are received, the PMAE must determine the most appropriate requestor prior to repatriation. Requests for joint repatriation of the human remains are considered a single request and not competing requests. The PMAE is responsible for sending a copy of this notice to the Indian Tribe identified in this notice.

Authority: Native American Graves Protection and Repatriation Act, 25 U.S.C. 3003, and the implementing regulations, 43 CFR 10.9, 10.10, and 10.14.

Dated: July 6, 2023.
Melanie O'Brien,
Manager, National NAGPRA Program.

[FR Doc. 2023-15107 Filed 7-17-23; 8:45 am]

BILLING CODE 4312-52-P